DEPARTMENT OF TRANSPORTATION

Federal Aviation Administration

14 CFR Part 23

[Docket No. CE306; Special Conditions No. 23-246-SC]

Special Conditions: Cirrus Design Corporation Model SF50 airplane; Full Authority Digital Engine Control (FADEC) System; Withdrawal

AGENCY: Federal Aviation Administration (FAA), DOT.

ACTION: Final special conditions; withdrawal.

SUMMARY: The FAA is withdrawing a previously published document granting special conditions for the Cirrus Design Corporation model SF50 airplane. We are withdrawing Special Condition No. 23-246-SC through mutual agreement with Cirrus Design Corporation.

DATES: Effective May 21, 2015, the special condition published on April 20, 2010 (75 FR 20518) is withdrawn.

FOR FURTHER INFORMATION CONTACT: Jeff Pretz, Federal Aviation Administration, Small Airplane Directorate, Aircraft Certification Service, 901 Locust, Room 301, Kansas City, MO 64106; telephone (816) 329-3239; facsimile (816) 329-4090, email jeff.pretz@faa.gov.

SUPPLEMENTARY INFORMATION:

Background

On September 9, 2008, Cirrus Design Corporation applied for a type certificate for their new model SF50 aircraft. Under the provisions of 14 CFR part 21, § 21.17, Cirrus Design Corporation must show that the model SF50 meets the applicable provisions of part 23, as amended by amendments 23-1 through 23-59.

On April 20, 2010, the FAA published Special Condition No. 23-246-SC for the Cirrus Design Corporation model SF50 airplane. The Cirrus SF50 is a low-wing, five-plus-two-place (2 children), single-engine turbofan-powered aircraft. The airplane engine is controlled by an Electronic Engine Control (EEC), also known as a Full Authority Digital Engine Control (FADEC).

On December 11, 2012 Cirrus Design Corporation elected to adjust the certification basis of the SF50 to include 14 CFR part 23 through amendment 62. Special Condition No. 23-246-SC is therefore being withdrawn. It no longer reflects the appropriate part 23 amendment level of the aircraft and the basic Special Condition requirement for EEC equipped aircraft has been revised.

Reason for Withdrawal

The FAA is withdrawing Special Condition No. 23-246-SC because Cirrus Design Corporation elected to revise the model SF50 certification basis to amendment 23-62.

The authority citation for this Special Condition withdrawal is 49 U.S.C. 106(g), 40113 and 44701; 14 CFR 21.16 and 21.17; and 14 CFR 11.38 and 11.19.

Conclusion

Withdrawal of this special condition does not preclude the FAA from issuing another document on the subject matter in the future or committing the agency to any future course of action.

Issued in Kansas City, Missouri on May 11, 2015.
Earl Lawrence,
Manager, Small Airplane Directorate, Aircraft Certification Service.

[FR Doc. 2015-12262 Filed 5-20-15; 8:45 am]

BILLING CODE 4910-13-P